DEPARTMENT OF COMMERCE

Economic Development Administration

Proposed Information Collection; Comment Request; Application for Investment Assistance

AGENCY: Economic Development Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 6, 2009.

ADDRESSES: Direct all written comments to Diana Hynek, Departmental Paperwork Clearance Officer, Department of Commerce, Room 6625, 14th and Constitution Avenue, NW., Washington, DC 20230 (or via the Internet at dHynek@doc.gov.)

FOR FURTHER INFORMATION CONTACT: Requests for additional information or copies of the information collection instrument and instructions should be directed to Maureen Klovers, Program Analyst, (p) 202-482-2785, (f) 202-482-2838, mklovers@eda.doc.gov.

SUPPLEMENTARY INFORMATION:

I. Abstract

The Economic Development Administration's (EDA) mission is to lead the federal economic development agenda by promoting innovation and competitiveness, and preparing American regions for growth and success in the worldwide economy. This information collection is necessary to determine the applicant's eligibility for investment assistance under EDA's authorizing statute, the Public Works and Economic Development Act of 1965, as amended (42 U.S.C. 3121 et seq.), and regulations (13 CFR Chapter III). The information collection also determines the quality of the proposed scope of work to address the pressing economic distress of the region in which the proposed project will be located, the merits of the activities for which the investment assistance is requested, and the ability of the eligible applicant to carry out the proposed activities successfully.

Form ED-900 is used to collect the necessary information. This form was approved for use by the Office of Management and Budget (OMB) on February 15, 2008, and was made available for use by the public on October 1, 2008. It replaced EDA's previous suite of application materials: (i) The Pre-Application for Investment Assistance (Form ED-900P), (ii) the Application for Investment Assistance (Form ED-900A), and (iii) all program-specific components required to complete the ED-900A. EDA continues to require additional government-wide federal grant assistance forms from the Standard Form 424 family and certain Department of Commerce forms as part of the application package.

EDA believes the new ED-900 has significantly reduced the paperwork burden on applicants and government personnel. The introduction of this form is expected to reduce applicant burden from a combined 46 hours to complete the aforementioned documents to 22 hours for the Form ED-900. In addition, because Form ED-900 consolidated all EDA requirements into a single application, it facilitates electronic application submission through http://www.grants.gov.

II. Method of Collection

EDA will accept hardcopy submissions or electronic submissions through http://www.grants.gov.

III. Data

OMB Control Number: 0610-0094.

Form Number(s): ED-900.

Type of Review: Regular submission.

Affected Public: Individuals or households; business or other for-profit organizations; not-for-profit institutions; State, local, or tribal governments; Economic Development District Organizations.

Estimated Number of Respondents: 875.

Estimated Time per Response: 22 hours.

Estimated Total Annual Burden Hours: 18,953.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 3, 2008.
Gwellnar Banks,
Management Analyst, Office of the Chief Information Officer.

[FR Doc. E8-26557 Filed 11-6-08; 8:45 am]

BILLING CODE 3510-34-P